ENVIRONMENTAL PROTECTION AGENCY

[OPPT-2002-0001; FRL-7330-9]

National Pollution Prevention and Toxics Advisory Committee; Notice of Public Meeting

AGENCY: Environmental Protection Agency (EPA).

ACTION: Notice.

SUMMARY: Under the Federal Advisory Committee Act (FACA), 5 U.S.C. App. 2 (Public Law 92-463), EPA gives notice of a 2-day meeting of the National Pollution Prevention and Toxics Advisory Committee (NPPTAC). The purpose of the NPPTAC is to provide advice and recommendations to EPA regarding the overall policy and operations of the programs of the Office of Pollution Prevention and Toxics (OPPT).

DATES: The meeting will be held on November 4, 2003, from 1:30 p.m. to 5:30 p.m., and November 5, 2003, from 8:30 a.m. to 4 p.m.

Registration to attend the meeting, identified as NPPTAC November 2003 meeting, must be received on or before October 29, 2003. Registration will be also accepted at the meeting.

Requests to provide oral comments at the meeting, identified as NPPTAC November 2003 meeting, must be received in writing on or before October 27, 2003.

Written comments, identified as NPPTAC November 2003 meeting, may be submitted at any time. Written comments received on or before October 27, 2003 will be forwarded to the NPPTAC members prior to or at the meeting.

ADDRESSES: The meeting will be held at Key Bridge Marriott, 1401 Lee Highway, Arlington, VA 22209.

For address information concerning registration, the submission of written comments, and requests to present oral comments, refer to Unit I. of the SUPPLEMENTARY INFORMATION.

FOR FURTHER INFORMATION CONTACT: For general information contact: Barbara Cunningham, Director, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Mary Hanley, Designated Federal Officer, Office of Pollution Prevention and Toxics (7401M), Environmental Protection Agency, 1200 Pennsylvania Ave., NW., Washington, DC 20460-0001; telephone number: (202) 564-9891; e-mail address: npptac.oppt@epa.gov.

SUPPLEMENTARY INFORMATION:

I. General Information

A. Does this Action Apply to Me?

This action is directed to the public in general, and may be of particular interest to those persons who have an interest in or may be required to manage pollution prevention and toxic chemical programs, individuals, or groups concerned with environmental justice, children's health, or animal welfare, as they relate to OPPT's programs under the Toxic Substances Control Act (TSCA) and the Pollution Prevention Act (PPA). Since other entities may also be interested, the Agency has not attempted to describe all the specific entities that may be interested in the activities of the NPPTAC. If you have any questions regarding the applicability of this action to a particular entity, consult the technical person listed under FOR FURTHER INFORMATION CONTACT.

To submit written comments to the docket: Identify the submission as OPPT-2002-0001 docket, NPPTAC November 2003 meeting.

Electronically: At http://www.epa.gov/edocket/, search for OPPT-2002-0001, and follow the directions to submit comments.

By mail: Environmental Protection Agency, EPA Docket Center (EPA/DC), OPPT-2002-0001, 7407T, 1200 Pennsylvania Ave., NW., Washington, DC 20460-0001.

To register to attend the meeting: Pre-registration for the November 2003 NPPTAC meeting and requests for special accommodations may be made by visiting the NPPTAC web site at: http://www.epa.gov/oppt/npptac/meetings.htm. Registration will also be available at the meeting. Special accommodations may also be requested by calling (202) 564-9891 and leaving your name and telephone number.

To request an opportunity to provide oral comments: You must register first in order to request an opportunity to provide oral comments at the meeting. To register visit the NPPTAC web site at: http://www.epa.gov/oppt/npptac/meetings.htm. If you have problems downloading the registration form, e-mail us at npptac.oppt@epa.gov or leave a message at (202) 564-9891. Please indicate your name and telephone number.

B. How Can I Get Copies of this Document and Other Related Information?

1. Docket. EPA has established an official public docket for this action under docket ID number OPPT-2002-0001. The official public docket consists of the documents specifically related to the NPPTAC, any public comments received, and other information related to the NPPTAC. Although a part of the official docket, the public docket does not include Confidential Business Information (CBI) or other information whose disclosure is restricted by statute. The official public docket is the collection of materials that is available for public viewing at EPA's Docket Center, Rm. B102-Reading Room, EPA West, 1301 Constitution Ave., NW., Washington, DC. EPA's Docket Center is open from 8:30 a.m. to 4:30 p.m., Monday through Friday, excluding legal holidays. EPA's Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

The proposed agenda for the NPPTAC meeting includes items related to the chemical management and pollution prevention programs at OPPT, for example: Existing Chemicals Program, including the High Production Volume Challenge Program, New Chemicals Program, Pollution Prevention, Risk Assessment, Risk Management, Risk Communication, and coordination with States, Tribes, and other stakeholders. The meeting is open to the public.

III. How Can I Request to Participate in this Meeting?

You may register to attend the meeting by filling out the registration form according to the instructions listed under Unit I.A. Please note that registration will assist in planning adequate seating; however, members of the public can register the day of the meeting, therefore all seating will be available on a first come, first serve basis.

Please make sure to indicate in your registration if you require special accommodations. In order to provide special accommodations, the request should be received by October 22, 2003

.

Requests to provide oral comments at the meeting must be submitted in writing on or before October 27, 2003, with a registration form. Please note that time for oral comments may be 3 to 5 minutes per speaker, depending on the number of requests received.

You may submit written comments to the docket listed under Unit I.B. Written comments can be submitted at any time. If written comments are submitted on or before October 27, 2003, they will be provided to the NPPTAC members prior to or at the meeting. If you provide written comments at the meeting, 35 copies will be needed.

Do not submit any information that is considered CBI.

List of Subjects

Environmental protection, NPPTAC, Pollution prevention, Toxics, Toxic chemicals, Chemical health and safety.

Dated: October 8, 2003.
Margaret Schneider,
Acting Director, Office of Pollution, Prevention, and Toxics.

[FR Doc. 03-26053 Filed 10-14-03; 8:45 am]

BILLING CODE 6560-50-S